EXPORT-IMPORT BANK

Notice of Joint Open Meeting of the Advisory Committee of the Export-Import Bank of the United States (EXIM) and Sub-Saharan Africa Advisory Committee of the Export-Import Bank of the United States (EXIM); Correction

Time and Date: Wednesday, April 1, 2020 from 3:30-5:00 p.m. EST

Place: Omni Shoreham Hotel, Palladian Ballroom, 2500 Calvert St. NW, Washington, DC 20008

Correction: THIS MEETING HAS BEEN CANCELLED.

Agenda: Discussion of EXIM policies and programs and comments for inclusion in EXIM's Report to the U.S. Congress on Global Export Credit Competition and policies and programs designed to support the expansion of financing support for U.S. manufactured goods and services in Sub-Saharan Africa.

Public Participation: The meeting will be open to public participation, and time will be allotted for oral questions or comments. Members of the public may also file written statement(s) before or after the meeting. If you plan to attend, you may email external@exim.gov to be placed on an attendee list. If any person wishes auxiliary aids, such as a sign language interpreter, or other special accommodations, please email external@exim.gov no later than 5:00 p.m. EST on Thursday, March 26, 2020.

Members of the Press: For members of the press planning to attend the meeting please email external@exim.gov to be placed on the attendee list.

Further Information: For further information, contact the Office of External Engagement at external@exim.gov.

Joyce Brotemarkle Stone,
Assistant Corporate Secretary.

[FR Doc. 2020-05480 Filed 3-16-20; 8:45 am]

BILLING CODE 6690-01-P